DEPARTMENT OF THE TREASURY

Alcohol and Tobacco Tax and Trade Bureau

27 CFR Part 9

[Docket No. TTB-2018-0010; Notice No. 179]

RIN 1513-AC41

Proposed Establishment of the Eastern Connecticut Highlands Viticultural Area

AGENCY: Alcohol and Tobacco Tax and Trade Bureau, Treasury.

ACTION: Notice of proposed rulemaking.

SUMMARY: The Alcohol and Tobacco Tax and Trade Bureau (TTB) proposes to establish the approximately 1,246 square-mile “Eastern Connecticut Highlands” viticultural area in all or portions of Hartford, New Haven, Tolland, Windham, New London, and Middlesex Counties in Connecticut. The proposed viticultural area is not within and does not overlap any other established AVA. TTB designates viticultural areas to allow vintners to better describe the origin of their wines and to allow consumers to better identify wines they may purchase. TTB invites comments on this proposed addition to its regulations.

DATES: Comments must be received by February 11, 2019.

ADDRESSES: Please send your comments on this notice to one of the following addresses:

• Internet: https://www.regulations.gov (via the online comment form for this notice as posted within Docket No. TTB-2018-0010 at “Regulations.gov,” the Federal e-rulemaking portal);

• U.S. mail: Director, Regulations and Rulings Division, Alcohol and Tobacco Tax and Trade Bureau, 1310 G Street NW, Box 12, Washington, DC 20005; or

• Hand delivery/courier in lieu of mail: Alcohol and Tobacco Tax and Trade Bureau, 1310 G Street NW, Suite 400, Washington, DC 20005.

See the Public Participation section of this notice for specific instructions and requirements for submitting comments, and for information on how to request a public hearing or view or obtain copies of the petition and supporting materials.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01, dated December 10, 2013, (superseding Treasury Order 120-01, dated January 24, 2003), to the TTB Administrator to perform the functions and duties in the administration and enforcement of these provisions.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes the standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA;

• The appropriate United States Geological Survey (USGS) map(s) showing the location of the proposed AVA, with the boundary of the proposed AVA clearly drawn thereon; and

• A detailed narrative description of the proposed AVA boundary based on USGS map markings.

Eastern Connecticut Highlands Petition

TTB received a petition from Steven Vollweiler, president of Sharpe Hill Vineyard, proposing the establishment of the approximately 1,246-square mile “Eastern Connecticut Highlands” AVA. The proposed Eastern Connecticut Highlands AVA covers the eastern third of the State and includes all or portions of Hartford, New Haven, Tolland, Windham, New London, and Middlesex Counties. Sixteen commercially-producing vineyards covering approximately 114.75 acres are distributed throughout the proposed AVA. An additional 20.5 acres of commercial vineyards are planned for the near future. Six wineries are also within the proposed AVA, with an additional three new wineries planned for the near future. Grape varieties planted within the proposed AVA include cold-resistant varietals such as St. Croix, Traminette, Vidal, Cayuga, Frontenac, and Vignoles.

According to the petition, the distinguishing features of the proposed Eastern Connecticut Highlands AVA include its geology, topography, soils, and climate. Unless otherwise noted, all information and data pertaining to the proposed AVA contained in this document are from the petition for the proposed Eastern Connecticut Highlands AVA and its supporting exhibits.

Name Evidence

The proposed Eastern Connecticut Highlands AVA is located in what is known and referred to as the upland areas east of the Central Valley of Connecticut. These upland areas are commonly referred to as the “eastern highlands.” The petition proposes adding “Connecticut” to the proposed AVA name in order to avoid confusion with other regions in the United States that are referred to as “eastern highlands.”

Examples of the use of the term “eastern highlands” to describe the region of the proposed AVA include an article about Connecticut's physiography that appears on the Connecticut Department of Energy & Environmental Protection's web page. The article describes the region of the proposed AVA as “the Eastern Uplands or Highlands region.” ¹ The same web page also contains an article on the Air Line State Park Trail, which follows the rail bed of a rail line that formerly ran between Boston and New York City. This article states that in order for the rail line to be built, certain political and physical obstacles needed to be overcome, one of which was “Connecticut's eastern highlands.” ² In its entry on Connecticut, an online geography encyclopedia notes that, “The state is divided into two roughly equal sections, usually called the eastern highland and the western highland, which are separated by the Connecticut Valley lowland.” ³ As supporting name evidence, the petitioner provided a link to a hiking website with a page titled “Eastern Highlands Rock Climbing” ⁴ that includes rock climbing locations within the proposed AVA. The petition included a map of the physical geology of Connecticut, which shows the three regions of the State, including an area labeled “Eastern Highlands.” Finally, the petition notes that a major healthcare organization that serves the region of the proposed AVA is named the Eastern Highlands Health District.

¹ http://www.ct.gov/deep/lib/deep/wildlife/Pdf_files/nongame/ctwap/2005cwcs/CWCSCh2.pdf.

² http://www.ct.gov/deep/airlinetrail.

³ http://www.infoplease.com/encyclopedia/us/connecticut-state-united-states-geography.html.

⁴ https://www.mountainproject.com/v/eastern-highlands/10607668.

Boundary Evidence

The proposed Eastern Connecticut Highlands AVA encompasses the upland region of eastern Connecticut. According to the petition, the proposed boundary closely follows certain fault lines that lie along the geologic boundaries of the uplands region. The eastern and southern proposed boundaries approximate the Lake Char Fault and the Honey Hill Fault, respectively, and the western boundary follows the Eastern Border Fault of the Mesozoic Harford Basin. Beyond these boundaries, the topography and climate differ from within the proposed AVA. The Massachusetts-Connecticut State line forms the northern boundary of the proposed AVA because the climate and elevations of the region to the north of the proposed AVA differ slightly from the climate and elevations of the proposed AVA and because the proposed “Eastern Connecticut Highlands” name does not extend into Massachusetts.

Distinguishing Features

The distinguishing features of the proposed Eastern Connecticut Highlands AVA are its geology, topography, soils, and climate.

Geology

According to the petition, the varying resistance to erosion of the underlying rocks determines the topography and the physiographic provinces of Connecticut. The proposed Eastern Connecticut Highlands AVA is underlain by a Paleozoic formation generally referred to by geologists as Iapetus Terrane, named for the ancient ocean that once covered the region. The Iapetus Terrane is comprised largely of metamorphic rocks that are difficult to erode, resulting in the hills and mountains that characterize the landscape of the proposed AVA. The underlying geology also plays a major role in the formation of soils within the proposed AVA. The topography and soils of the proposed AVA will be discussed later in this document.

To the west of the proposed AVA, the region known as the Central Valley is underlain by younger, more easily eroded sandstone, shale, and basalt lava flows that have a significantly different chemical composition than the geological formations of the proposed AVA. The regions to the east and south of the proposed AVA are part of the Avalonia Terrane, which consists of older, Pre-Cambrian rocks.

Topography

The proposed Eastern Connecticut Highlands AVA is characterized by hilly-to-mountainous terrain. Elevations within the proposed AVA range from about 200 feet in the valley floors between the hills to just more than 1,000 feet at the highest elevations in the northern portion. Along the eastern and western edges of the proposed AVA, the hills that run along the Eastern Border fault and the Lake Char Fault were formed from erosion-resistant metamorphic rocks. As a result, these hills tend to have sharp ridgelines and high elevations. In the central portion of the proposed AVA, the hills formed from metamorphic rocks that were less erosion-resistant than the rocks along the eastern and western edges. As a result, the hills in the central portion of the proposed AVA are more rounded and are “closely crammed together, almost nudging each other for more space.” ⁵ The petition states that the tops of these hills have concordant elevations, meaning that one hilltop will have about the same elevation as the neighboring hills. The hilltop elevations decrease as one moves from north to south. The petition states that if one were to imagine placing a gigantic sheet of plywood on top of the hills, the plywood would form a plane that gently slopes southward at about 10 to 20 feet per mile.

⁵ Michael Bell, The Face of Connecticut. State Geological and Natural History Survey of Connecticut, Bulletin 100 (1985).

By contrast, the region to the west of the proposed AVA is a broad, flat valley. Elevations within the valley range from about 150 feet to 250 feet. South of the proposed AVA, within the region known as the Coastal Slope, elevations are also generally lower than within the proposed AVA, ranging from sea level to about 400 feet. The shoreline of this coastal region consists of rocky prominences separated by coves and tidal lands that may extend several miles inland. The highlands terrain of the proposed AVA extends north into Massachusetts and east into Rhode Island, but the elevations differ in those locations. The petition states that the highlands of Massachusetts have generally higher elevations than the proposed AVA. The petition also notes that the highlands of Rhode Island diminish as one moves eastward, and the elevations become lower.

The petition states that topography affects viticulture within the proposed Eastern Connecticut Highlands AVA because topography impacts the climate of a region. Regions with higher elevations, such as the proposed AVA, generally have a colder climate than regions with lower elevations, such as the neighboring Central Valley. Additionally, regions that are closer to the coast, such as the Coastal Slope region south of the proposed AVA and the lower elevations of Rhode Island, are more significantly affected by maritime climate than higher inland regions like the proposed AVA. Temperatures affect the varietals of grapes that can be successfully grown in any given area, as will be discussed later in this document.

Soils

According to the petition, Connecticut was affected by the last Ice Age glacier, which covered all of the State with ice a mile or more thick. As the ice slowly flowed in a generally southerly direction, it scraped and eroded the underlying bedrock, which contains an abundance of mineral nutrients. Eroded debris deposited by glaciers is referred to as glacial till. Glacial till soils are generally fertile and well-suited for agriculture, including viticulture.

There are two main types of glacial till—lodgement (or basal) till, which is material deposited by glaciers as they move across the landscape, and ablation (or meltout) till, which is material deposited as a stagnant or slow moving glacier melts. The petition states that the soils of the proposed Eastern Connecticut Highlands AVA developed on lodgement till. These soils are thick sandy-to-silty loams and can range from well to poorly drained and are typically less permeable than soils formed from ablation till. According to the petition, the proposed AVA has the largest area of lodgement till soils in the State. By contrast, the Coastal Slope region of Connecticut, south of the proposed AVA, has the smallest amount of lodgement till soils. The southern and western regions of the State contain large areas of ablation soils. Soils in the Central Valley west of the proposed AVA formed in widespread glacial lake beds and are often poorly drained.

The petition also provided information on the concentrations of seven elements found in the soils of the proposed AVA and the regions to the east, south, and west that play important roles in vine nutrition: Calcium, iron, magnesium, potassium, phosphorous, sulfur, and zinc. The petition states that when compared to the Central Valley, the proposed AVA has higher levels of calcium, iron, magnesium, and sulfur, and lower levels of potassium, phosphorous, and zinc. The petition states that these differences in soil chemistry are due to the very different chemical composition of the geological features underlying the Central Valley, which are formed primarily from sedimentary rocks and basalt. Compared to the regions to the east and south, the proposed AVA has similar levels of calcium, phosphorus, and sulfur, higher levels of iron, magnesium, and zinc, and lower levels of potassium. The petition states that there are fewer chemical differences between the soils of the proposed AVA and the regions to the east and south because similar metamorphic rocks comprise the underlying geological features of all three of these regions. However, the proposed AVA does contain some soils derived from mafic rocks, which are igneous rocks that are very rich in iron and magnesium and contribute to the higher levels of those elements within the proposed AVA's soils.

The petition notes that calcium plays a role in a vine's ability to uptake iron, and too much calcium can inhibit iron uptake. Iron is necessary for plants, including grapevines, to undertake chlorophyll synthesis, which allows for the production of nutrients needed for grapevine growth.⁶ Lack of iron may lead to chlorosis—an iron deficiency that may cause yellowing on grapevines and ultimately lead to grapevine death.⁷ Magnesium is involved with carbohydrate metabolism, and a lack of magnesium may also lead to chlorosis.⁸ Phosphorous is involved with energy transport in the vines, and a phosphorous deficiency can reduce grapevine growth and cause premature grape ripening.⁹ Potassium helps maintain fruit acidity by exchange with hydrogen ions, and a potassium deficiency can harm grapevines and cause grapes to unevenly ripen or fail to ripen.¹⁰ Higher levels of sulfur are generally known to increase soil acidity and provide grapevines with vitamins necessary for grapevine growth.¹¹

⁶ See James Schuster, Focus on Plant Problems—Chlorosis. University of Illinois. http://extension.illinois.edu/focus/index.cfm?problem=chlorosis (viewed June 5, 2018).

⁷ Id; see also Albert J. Winkler et al., General Viticulture 425-426 (Berkeley: University of California Press, 2nd ed. 1974).

⁸ General Viticulture at 425.

⁹ Id.

¹⁰ Id. at 415-418.

¹¹ Id. at 426-427.

Finally, the petition included the following table listing the most common soil series of the proposed AVA, the Central Valley to the west, and the Avalon Terrane to the south and east. The table shows that the proposed AVA shares some of the same soils as the regions to the south and east but contains none of the soils found in the region to the west. The petition states that the greater difference in soils series between the proposed AVA and the Central Valley is due to the greater differences in the underlying geology. The proposed AVA and the regions to the east and south have similar underlying geologic structures, but the slight chemical differences contribute to the slight differences in soil series.

Table 1—Soil Series
Proposed AVA | Central Valley (west) | Avalon Terrane (east and south)
Agawam-Merrimac-Hinckley, Brimfield-Brookfield, Broadbrook-Rainbow, Canton-Charlton-Hollis, Charlton-Hollis, Hinckley-Merrimac, Hollis-Charlton, Hollis-Woodbridge, Paxton-Woodbridge | Branford-Manchester, Cheshire-Wethersfield-Manchester, Cheshire-Yalesville, Elridge-Bancroft-Scitico, Hadley-Winooski, Hartford-Manchester, Holyoke-Wethersfield-Cheshire, Penwood-Manchester, Rumney-Podunk, Wethersfield-Holyoke-Broadbrook, Wethersfield-Ludlow, Windsor-Ninigret-Merrimac | Agawam-Merrimac-Hinckley, Broadbrook-Rainbow, Canton-Charlton-Hollis, Charlton-Hollis, Hollis-Charlton, Narragansett-Hollis, Paxton-Woodbridge.

Climate

The petition included information on the average annual temperatures, growing degree days (GDDs) ¹², coldest recorded temperature, average date of the latest spring frost, and average date of the earliest fall frost for the proposed Eastern Connecticut Highlands AVA and the surrounding regions. The data was gathered from 1996 to 2015 and is included in the following table.

¹² In the Winkler climate classification system, annual heat accumulation during the growing season, measured in annual growing degree days (GDDs), defines climatic regions. One GDD accumulates for each degree Fahrenheit that a day's mean temperature is above 50 degrees, the minimum temperature required for grapevine growth. Id. at 61-64.

Table 2—Climate
Location (direction from proposed AVA) | Average annual temperature (fahrenheit) | Growing degree days | Coldest temperature (fahrenheit) | Average date of last spring frost | Average date of first fall frost
Windham Airport (within) | 50.1 | 2,780 | −13 | May 3 | October 15.
Windsor Locks, CT (west) | 51.3 | 3,036 | −11 | April 23 | October 15.
Hartford, CT (west) | 52.2 | 3,185 | −4 | April 12 | October 23.
Groton, CT (south) | 51.5 | 2,709 | −5 | April 18 | October 26.
New Haven, CT (south) | 52.5 | 3,057 | −2 | April 9 | November 1.
Worcester, MA (north) | 50.5 | 2,445 | −16 | April 20 | October 21.
Fitchburg, MA (north) | 49.7 | 2,667 | −11 | April 23 | October 17.
Orange, MA (north) | 47.2 | 2,409 | −22 | May 10 | October 7.
Lincoln, RI (east) | 50 | 2,577 | −9 | April 24 | October 23.
Warwick, RI (east) | 52.2 | 3,029 | −6 | April 12 | October 31.

The data shows that the proposed AVA has average annual temperatures that are generally similar to the surrounding locations. However, this data also shows more pronounced differences in other climate measurements. When compared to the region to the north, the proposed AVA has significantly higher GDD accumulations than all three northern locations, indicating warmer growing season temperatures. The proposed AVA also has a generally shorter growing season than two of the northern locations, as indicated by the later last-spring-frost date and earlier first-fall-frost date for the proposed AVA. Compared to the regions to the south and east, the proposed AVA has lower GDD accumulations than two of the locations. The proposed AVA also has a shorter growing season than all four of the southern and eastern comparison locations, which are closer to the Long Island Sound and thus benefit from temperature-moderating marine breezes. Finally, compared to the Central Valley region to the west, the proposed AVA has lower GDD accumulations and a shorter growing season than both western comparison locations.

The petition states that the GDD accumulations within the proposed Eastern Connecticut Highlands AVA and each of the surrounding regions are sufficient to ripen most Vitis vinifera varietals. However, the petition goes on to state that cold hardiness is the prime determinant of which varietals can be successfully grown in the proposed AVA. The proposed AVA has the lowest minimum temperature of all of the surrounding regions except for two locations to the north. Most vinifera varietals do poorly in climates with extreme cold winter temperatures, which can kill dormant vines, or late spring frosts, which can damage tender new vine growth. As a result, most vineyards in the proposed AVA plant cold-hardy non-vinifera hybrids such as St. Croix, Traminette, Vidal, Cayuga, Frontanec, and Vignoles. By contrast, vineyards planted to the south of the proposed AVA, within the warmer coastal region, plant more vinifera varietals including Cabernet franc, Merlot, Riesling, and Chardonnay.

Summary of Distinguishing Features

In summary, the geology, topography, soils, and climate of the proposed Eastern Connecticut Highlands AVA distinguish it from the surrounding regions. The proposed AVA is a region of hills and mountains with underlying geological features that are resistant to erosion. To the west of the proposed AVA in the Central Valley, the topography is characterized by a broad, flat plain with underlying geological features that are easily eroded. North of the proposed AVA, the elevations are generally higher. To the east and south, the underlying geological features are older, and the elevation of the topography gradually descends to the coast.

The soils of the proposed AVA developed on the largest area of lodgement till in the State and consist of thick sandy-to-silty loams. The regions to the east and south of the proposed AVA share some of the same soil series of the proposed AVA, but the AVA has lower potassium levels and higher levels of iron, magnesium, and zinc than in these regions. Additionally, the soils to the south and east of the proposed AVA contain less lodgement till. To the west of the proposed AVA, the soils developed in glacial lake beds and are of different soil series than the soils of the proposed AVA. The soils to the west of the proposed AVA also contain lower levels of calcium, iron, magnesium, and sulfur than the soils of the proposed AVA.

The climate of the proposed AVA is generally cooler than most of the surrounding regions and is suitable for growing cold-hardy hybrid varietals of grapes. The regions to the south, east, and west all have warmer lowest-recorded temperatures and earlier last-spring-frost dates than the proposed AVA, making those regions more suitable to growing vinifera varietals that are less cold-hardy. The region to the north of the proposed AVA has GDD accumulations and lowest-recorded temperatures that are generally lower than for the proposed AVA.

TTB Determination

TTB concludes that the petition to establish the approximately 1,246 square-mile Eastern Connecticut Highlands AVA merits consideration and public comment, as invited in this notice of proposed rulemaking.

Boundary Description

See the narrative description of the boundary of the petitioned-for AVA in the proposed regulatory text published at the end of this proposed rule.

Maps

The petitioner provided the required maps, and they are listed below in the proposed regulatory text.

Impact on Current Wine Labels

Part 4 of the TTB regulations prohibits any label reference on a wine that indicates or implies an origin other than the wine's true place of origin. For a wine to be labeled with an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed AVA, its name, “Eastern Connecticut Highlands,” will be recognized as a name of viticultural significance under § 4.39(i)(3) of the TTB regulations (27 CFR 4.39(i)(3)). The text of the proposed regulation clarifies this point. Consequently, wine bottlers using the name “Eastern Connecticut Highlands” in a brand name, including a trademark, or in another label reference as to the origin of the wine, would have to ensure that the product is eligible to use the AVA name as an appellation of origin if this proposed rule is adopted as a final rule. Accordingly, the proposed part 9 regulatory text set forth in this document specifies the full name “Eastern Connecticut Highlands” as a term of viticultural significance for the proposed AVA for the purposes of part 4 of the TTB regulations.

Public Participation

Comments Invited

TTB invites comments from interested members of the public on whether it should establish the proposed AVA. TTB is also interested in receiving comments on the sufficiency and accuracy of the name, boundary, soils, climate, and other required information submitted in support of the petition. Please provide any available specific information in support of your comments.

Because of the potential impact of the establishment of the proposed Eastern Connecticut Highlands AVA on wine labels that include the term “Eastern Connecticut Highlands” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the AVA.

Submitting Comments

You may submit comments on this notice by using one of the following three methods:

• Federal e-Rulemaking Portal: You may send comments via the online comment form posted with this notice within Docket No. TTB-2018-0010 on “Regulations.gov,” the Federal e-rulemaking portal, at https://www.regulations.gov. A direct link to that docket is available under Notice No. 179 on the TTB website at https://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW, Box 12, Washington, DC 20005.

• Hand Delivery/Courier: You may hand-carry your comments or have them hand-carried to the Alcohol and Tobacco Tax and Trade Bureau, 1310 G Street NW, Suite 400, Washington, DC 20005.

Please submit your comments by the closing date shown above in this notice. Your comments must reference Notice No. 179 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2018-0010 on the Federal e-rulemaking portal, Regulations.gov, at http://www.regulations.gov. A direct link to that docket is available on the TTB website at https://www.ttb.gov/wine/wine_rulemaking.shtml under Notice No. 179. You may also reach the relevant docket through the Regulations.gov search page at http://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also view copies of this notice, all related petitions, maps and other supporting materials, and any electronic or mailed comments that TTB receives about this proposal by appointment at the TTB Public Reading Room, 1310 G Street NW, Washington, DC 20005. You may also obtain copies at 20 cents per 8.5 x 11-inch page. Please note that TTB is unable to provide copies of USGS maps or other similarly-sized documents that may be included as part of the AVA petition. Contact TTB's Public Reading Room at the above address or by telephone at 202-822-9904 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.__to read as follows:

§ 9.__ Eastern Connecticut Highlands.

(a) Name. The name of the viticultural area described in this section is “Eastern Connecticut Highlands”. For purposes of part 4 of this chapter, “Eastern Connecticut Highlands” is a term of viticultural significance.

(b) Approved maps. The one United States Geological Survey (USGS) 1:125,000 scale topographic map used to determine the boundary of the Eastern Connecticut Highlands viticultural area is titled “State of Connecticut.”

(c) Boundary. The Eastern Connecticut Highlands viticultural area is located in Hartford, New Haven, Tolland, Windham, New London, and Middlesex Counties in Connecticut. The boundary of the Eastern Connecticut Highlands viticultural area is as described below:

(1) The beginning point is on the State of Connecticut map at the intersection of State Highway 83 and the Massachusetts-Connecticut State line in Somers. From the beginning point, proceed east along the Massachusetts-Connecticut State line approximately 33 miles to the intersection of the shared State line and an unnamed road, known locally as Bonnette Avenue, in Thompson; then

(2) Proceed southeast along Bonnette Avenue approximately 0.38 mile to its intersection with an unnamed road known locally as Sand Dam Road; then

(3) Proceed southeast along Sand Dam Road approximately 1.5 miles to its intersection with an unnamed road known locally as Thompson Road; then

(4) Proceed south along Thompson Road approximately 1,000 feet to its intersection with an unnamed road known locally as Quaddick Town Farm Road; then

(5) Proceed east then south along Quaddick Town Farm Road approximately 5.5 miles into the town of Putnam, where the road becomes known as East Putnam Road, and continuing south along East Putnam Road approximately 1 mile to its intersection with U.S. Highway 44; then

(6) Proceed west along U.S. Highway 44 approximately 1 mile to its intersection with an unnamed road known locally as Tucker Hill Road; then

(7) Proceed south along Tucker Hill Road approximately 0.38 mile to its intersection with an unnamed road known locally as Five Mile River Road; then

(8) Proceed southwest then west along Five Mile River Road 1.75 miles to its intersection with State Highway 21; then

(9) Proceed south along State Highway 21 approximately 2 miles to its intersection with State Highway 12; then

(10) Proceed south along State Highway 12 approximately 1 mile to its intersection with Five Mile River; then

(11) Proceed west along Five Mile River approximately 0.13 mile to its intersection with the highway marked on the map State Highway 52 (also known as Interstate 395); then

(12) Proceed south along State Highway 52/Interstate 395 approximately 14.5 miles to its intersection with State Highway 201; then

(13) Proceed southeast along State Highway 201 approximately 5.25 miles to its intersection with State Highway 165; then

(14) Proceed southwest along State Highway 165 approximately 10 miles to its intersection with State Highway 2; then

(15) Proceed west along State Highway 2 approximately 1 mile to its intersection with State Highway 82; then

(16) Proceed southwest, then northwest, then southwest along State Highway 82 approximately 27.72 miles to its intersection with State Highway 9; then

(17) Proceed southeast along State Highway 9 approximately 3.7 miles to its intersection with State Highway 80; then

(18) Proceed west along State Highway 80 approximately 15.7 miles to its intersection with State Highway 77; then

(19) Proceed north along State Highway 77 approximately 8.3 miles to its intersection with State Highway 17; then

(20) Proceed northeast along State Highway 17 approximately 6.8 miles to the point where it becomes concurrent with State Highway 9; then

(21) Proceed north along concurrent State Highway 17-State Highway 9 approximately 0.75 mile the point where State Highway 17 departs from State Highway 9; then

(22) Proceed east along State Highway 17 approximately 0.25 mile, crossing over the Connecticut River, to the highway's intersection with State Highway 17A; then

(23) Proceed north along State Highway 17A approximately 3 miles to its intersection with State Highway 17; then

(24) Proceed north along State Highway 17 approximately 8 miles to its intersection with State Highway 94; then

(25) Proceed east along State Highway 94 approximately 4 miles to its intersection with State Highway 83; then

(26) Proceed north along State Highway 83 approximately 25 miles, returning to the beginning point.

Signed: June 25, 2018.
John J. Manfreda,
Administrator.
Approved: December 4, 2018.
Timothy E. Skud,
Deputy Assistant Secretary (Tax, Trade, and Tariff Policy).

[FR Doc. 2018-27016 Filed 12-12-18; 8:45 am]

BILLING CODE 4810-31-P